NUCLEAR REGULATORY COMMISSION

[Docket Nos. 50-373 AND 50-374]

Exelon Generation Company, LLC; Notice of Withdrawal of Application for Amendment to Facility Operating License

The U.S. Nuclear Regulatory Commission (the Commission) has granted the request of Exelon Generation Company, LLC (the licensee), to withdraw its April 26, 2000, application for proposed amendment to Facility Operating License Nos. NPF-11 and NPF-18 for the LaSalle County Station, Unit Nos. 1 and 2, located in LaSalle County, Illinois.

The proposed amendment would have revised the habitability system requirements associated with the auxiliary electric equipment room.

The Commission had previously issued a Notice of Consideration of Issuance of Amendment published in the Federal Register on June 28, 2000 (65 FR 39958). However, by letter dated June 8, 2001, the licensee withdrew the proposed change.

For further details with respect to this action, see the application for amendment dated April 26, 2000, and the licensee's letter dated June 8, 2001, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 25th day of June 2001.
For the Nuclear Regulatory Commission.
Jon B. Hopkins,
Senior Project Manager, Section 2, Project Directorate III, Division of Licensing Project Management, Office of Nuclear Reactor Regulation.

[FR Doc. 01-16389 Filed 6-28-01; 8:45 am]

BILLING CODE 7590-01-P